DEPARTMENT OF HEALTH AND HUMAN SERVICES

Centers for Medicare & Medicaid Services

[CMS-3392-CN]

Medicare Program; Request for Nominations for Members for the Medicare Evidence Development & Coverage Advisory Committee; Correction

AGENCY: Centers for Medicare & Medicaid Services (CMS), HHS.

ACTION: Correction notice.

SUMMARY: This document corrects a typographical error that appeared in the notice published in the Federal Register on October 21, 2019 entitled “Request for Nominations for Members for the Medicare Evidence Development & Coverage Advisory Committee.”

DATES: This correcting document is effective on November 15, 2019.

FOR FURTHER INFORMATION CONTACT: Leah Cromwell, (410) 786-2243.

SUPPLEMENTARY INFORMATION:

I. Background and Summary of Errors

In FR Doc. 2019-22947 of October 21, 2019 (84 FR 56193), there was a typographical error that is identified in the For Further Information Contact section.

On page 56193, we inadvertently made a typographical error in the email address of the Medicare Evidence Development & Coverage Advisory Committee (MEDCAC) coordinator.

II. Correction of Errors

In FR Doc. 2019-22947 of October 21, 2019 (84 FR 56193), make the following corrections:

1. On page 56193, second column, third full paragraph, last line, the email address “Leah.Cromwell@cms.hhs.gov” is corrected to read “Leah.Cromwell1@cms.hhs.gov”.

Dated: November 4, 2019.
Kate Goodrich.
Director, Center for Clinical Standards and Quality, Chief Medical Officer, Centers for Medicare & Medicaid Services.

[FR Doc. 2019-24934 Filed 11-15-19; 8:45 am]

BILLING CODE 4120-01-P